DEPARTMENT OF VETERANS AFFAIRS

[OMB Control No. 2900-NEW (National Survey of Veterans (NSV)]

Agency Information Collection Activities Under OMB Review

AGENCY: Office of Policy and Planning, Department of Veterans Affairs.

ACTION: Notice.

SUMMARY: In compliance with the Paperwork Reduction Act (PRA) of 1995 (44 U.S.C., 3501 et seq.), this notice announces that the Office of Policy and Planning (OPPA), Department of Veterans Affairs, has submitted the collection of information abstracted below to the Office of Management and Budget (OMB) for review and comment. The PRA submission describes the nature of the information collection and its expected cost and burden; it includes the actual data collection instrument.

DATES: Comments must be submitted on or before December 4, 2000.

FOR FURTHER INFORMATION OR A COPY OF THE SUBMISSION CONTACT: Denise McLamb, Information Management Service (045A4), Department of Veterans Affairs, 810 Vermont Avenue, NW, Washington, DC 20420, (202) 273-8030 or FAX (202) 273-5981. Please refer to “National Survey of Veterans (NSV).”

SUPPLEMENTARY INFORMATION:

Title: National Survey of Veterans (NSV).

Type of Review: New collection.

Abstract: The NSV will be conducted in order to obtain current information relevant to the planning and budgeting of VA programs and services for veterans. The information collected from the telephone survey will also enable VA to study its role in the total use of benefits and services by veterans and provide current information about the characteristics of the veteran population. The survey will also provide information needed for research and policy analyses.

An agency may not conduct or sponsor, and a person is not required to respond to a collection of information unless it displays a currently valid OMB control number. The Federal Register Notice with a 60-day comment period soliciting comments on this collection of information was published on June 27, 2000 at page 39647.

Affected Public: Individuals or households.

Estimated Annual Burden: 11,667 hours.

Estimated Annual Burden Per Respondent: 35 minutes.

Frequency of Response: Voluntary.

Estimated Number of Respondents: 20,000.

Send comments and recommendations concerning any aspect of the information collection to VA's Desk Officer, OMB Human Resources and Housing Branch, New Executive Office Building, Room 10235, Washington, DC 20503 (202) 395-7316. Please refer to “National Survey of Veterans (NSV).”

Dated: September 22, 2000.
By direction of the Acting Secretary.
Donald L. Neilson,
Director, Information Management Service.

[FR Doc. 00-28078 Filed 1-01-00; 8:45 am]

BILLING CODE 8320-01-P